DEPARTMENT OF THE INTERIOR

Bureau of Land Management

[MTM 90527/IDI 33690]

Public Land Order No. 7549; Withdrawal of National Forest System Land to Preserve Lemhi Pass National Historic Landmark; Montana and Idaho

AGENCY: Bureau of Land Management, Interior.

ACTION: Public land order.

SUMMARY: This order withdraws 1,328.84 acres of National Forest System land from mining for a period of 20 years to preserve the unique resources of Lemhi Pass National Historic Landmark. The land has been and will remain open to such forms of disposition as may by law be made of National Forest System land and to mineral leasing. An additional 176.45 acres would become subject to the terms and conditions of this withdrawal upon acquisition of the mineral estate by the United States.

EFFECTIVE DATE: December 27, 2002.

FOR FURTHER INFORMATION CONTACT: Katie Bump, Project Coordinator, Beaverhead-Deerlodge National Forest, 420 Barrett Street, Dillon, Montana 59725-3572, 406-683-3955.

Order

By virtue of the authority vested in the Secretary of the Interior by section 204 of the Federal Land Policy and Management Act of 1976, 43 U.S.C. 1714 (1994), it is ordered as follows:

1. Subject to valid existing rights, the following described National Forest System land is hereby withdrawn from location or entry under the United States mining laws (30 U.S.C. Ch. 2 (1994)), to preserve the unique resources of Lemhi Pass National Historic Landmark:

(a) Beaverhead-Deerlodge National Forest

Principal Meridian, Montana,

T. 10 S., R. 15 W.,

Sec. 9, lots 1 to 4, inclusive, and E½E½;

The area described contains 285.71 acres in Beaverhead County.

(b) Salmon-Challis National Forest

Boise Meridian, Idaho,

T. 19 N., R. 25 E.,

Sec. 10, S½SE¼;

Sec. 11, lot 4, S½SW¼, and SW¼SE¼;

Sec. 14, lots 1 to 5, inclusive, lots 7 and 8, NW¼, and W½E½;

Sec. 15, NE¼ and N½SE¼.

The area described contains 1,043.13 acres in Lemhi County.

The areas described in (a) and (b) above aggregate 1,328.84 acres.

2. The following described land, which is located within the boundary of the Lemhi Pass National Historic Landmark, would become subject to the terms and conditions of this withdrawal upon acquisition of the mineral estate by the United States:

Beaverhead-Deerlodge National Forest

Principal Meridian, Montana,

T. 10 S., R. 15 W.,

Sec. 16, lots 1 and 2, and E½NE¼.

The area described contains 176.45 acres in Beaverhead County.

3. The withdrawal made by this order does not alter the applicability of those public land laws governing the use of National Forest System lands under lease, license, or permit, or governing the disposal of their mineral or vegetative resources other than under the mining laws.

4. This withdrawal will expire 20 years from the effective date of this order unless, as a result of a review conducted before the expiration date pursuant to section 204(f) of the Federal Land Policy and Management Act of 1976, 43 U.S.C. 1714(f) (1994), the Secretary determines that the withdrawal shall be extended.

Dated: December 10, 2002.
Rebecca W. Watson,
Assistant Secretary—Land and Minerals Management.

[FR Doc. 02-32800 Filed 12-26-02; 8:45 am]

BILLING CODE 3410-11-P